DEPARTMENT OF ENERGY

Federal Energy Regulatory Commission

[Project No. 3267-016]

Chasm Hydro, Inc.; ECOsponsible, LLC; Notice of Application for Transfer of License and Soliciting Comments, Motions To Intervene, and Protests

On July 10, 2017, Chasm Hydro, Inc. (transferor) and ECOsponsible, LLC (transferee) filed an application for the transfer of license for the Ballard Mill Project No. 3267, from the transferor to the transferee. The project is located on the Salmon River in Franklin County, New York. The project does not occupy Federal lands.

The applicants seek Commission approval to transfer the license for the Ballard Mills Project from the transferor to the transferee.

Applicant's Contacts: For Transferor: Mr. John Dowd, President, Chasm Hydro, Inc., P.O. Box 265, Chateaugay, NY 12920.

For Transferee: Mr. Dennis Ryan, Manager, ECOsponsible, LLC, P.O. Box 114, West Falls, NY 14170.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-3267-016.

Dated: July 28, 2017.
Kimberly D. Bose,
Secretary.

[FR Doc. 2017-16350 Filed 8-2-17; 8:45 am]

BILLING CODE 6717-01-P